SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 16, 2002.

ADDRESSES: Send all comments regarding whether this information collection is necessary for the proper performance of the function of the agency, whether the burden estimates are accurate, and if there are ways to minimize the estimated burden and enhance the quality of the collection, to Johnny Kitts, Financial Analyst, Office of Investment, Small Business Administration, 409 3rd Street, SW., Suite 6300, Washington, DC 20416.

FOR FURTHER INFORMATION CONTACT: Johnny Kitts, Financial Analyst, (202) 205-7587 or Curtis B. Rich, Management Analyst, (202) 205-7030.

SUPPLEMENTARY INFORMATION: Title: Small Business Investment Company (SBIC) Leverage Application Forms and Documents, Leverage Application Kits.

Form No's.: 25, 33, 34, 1065.

Description of Respondents: Small Business Investment Companies.

Annual Responses: 327.

Annual Burden: 507.

Jacqueline White,
Chief, Administrative Information Branch.

[FR Doc. 02-3710 Filed 2-14-02; 8:45 am]

BILLING CODE 8025-01-P